DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of 3 individuals and 5 entities whose property and interests in property have been blocked pursuant to the Foreign Narcotics Kingpin Designation Act (“Kingpin Act”) (21 U.S.C. 1901-1908, 8 U.S.C. 1182).

DATES: The designation by the Director of OFAC of the three individuals and five entities identified in this notice pursuant to section 805(b) of the Kingpin Act is effective on August 20, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On August 20, 2014, the Director of OFAC designated the following 3 individuals and 5 entities whose property and interests in property are blocked pursuant to section 805(b) of the Kingpin Act.

Individuals

1. VALLE VALLE, Miguel Arnulfo; DOB 02 Jul 1972; POB Florida, Copan, Honduras; nationality Honduras (individual) [SDNT].

2. VALLE VALLE, Luis Alonso; DOB 29 Jun 1969; POB La Encarnacion, Octepeque, Honduras; nationality Honduras (individual) [SDNT].

3. VALLE VALLE, Jose Reynerio; DOB 15 Jan 1974; nationality Honduras (individual) [SDNT].

Entities

4. FINCA LOS TRES REYES, Aldea Espiritu Santo, Municipio de Florida, Departamento de Copan, Honduras [SDNT].

5. INVERSIONES LUISITO, Aldea Espíritu Santo, Municipio de Florida, Departamento de Copan, Honduras [SDNT].

6. INVERSIONES VALLE, Aldea Espíritu Santo, Municipio de Florida, Departamento de Copan, Honduras [SDNT].

7. INVERSIONES YOSARY, Honduras; Aldea Espíritu Santo, Municipio de Florida, Departamento de Copan, Honduras [SDNT].

8. LOS VALLES DRUG TRAFFICKING ORGANIZATION (a.k.a. VALLE VALLE DRUG TRAFFICKING ORGANIZATION) [SDNT].

Dated: August 20, 2014.
Barbara C. Hammerle,
Acting Director, Office of Foreign Assets Control.

[FR Doc. 2014-20608 Filed 8-28-14; 8:45 am]

BILLING CODE 4810-AL-P